INTERNATIONAL TRADE COMMISSION

[Investigation No. TA-131-25 and TA-2104-7]

U.S.-Dominican Republic Free Trade Agreement: Advice Concerning the Probable Economic Effect

AGENCY: United States International Trade Commission.

ACTION: Correction of notice of investigation.

SUMMARY: The Commission's notice published in the Federal Register on August 22, 2003 (68 F.R. 50808-50809) contained a typographical error that incorrectly identified the TA-2104 investigation number for the U.S.-Dominican Republic Free Trade Agreement: Advice Concerning the Probable Economic Effect study. The study was instituted August 15, 2003 under section 131 of the Trade Act of 1974 and section 2104(b)(2) of the Trade Act of 2002. The correct investigation Nos. are TA-131-25 and TA-2104-7.

By order of the Commission.
Issued: August 22, 2003.
Marilyn R. Abbott,
Secretary to the Commission.

[FR Doc. 03-21978 Filed 8-26-03; 8:45 am]

BILLING CODE 7020-02-P